ENVIRONMENTAL PROTECTION AGENCY

[EPA-RO7-OW-2018-0678; FRL-9985-46-Region 7]

Notice of Approval of the Primacy Application for National Primary Drinking Water Regulations for the State of Nebraska

AGENCY: Environmental Protection Agency (EPA).

ACTION: Notice of approval and solicitation of requests for a public hearing.

SUMMARY: The Environmental Protection Agency (EPA) is hereby giving notice that the State of Nebraska is revising its approved Public Water System Supervision Program under the Nebraska Department of Health and Human Services. EPA has determined that these revisions are no less stringent than the corresponding Federal regulations. Therefore, the EPA intends to approve these program revisions. Any interested person, other than Federal Agencies, may request a public hearing. If a substantial request for a public hearing is made within the requested thirty-day time frame, a public hearing will be held and a notice will be given in the Federal Register and a newspaper of general circulation. Frivolous or insubstantial requests for a hearing may be denied by the Regional Administrator.

DATES: This determination shall become final and effective on November 26, 2018, unless a timely and appropriate request for a public hearing is received or the Regional Administrator elects to hold a public hearing on his own motion. A request for a public hearing must be submitted to the Regional Administrator at the address shown below by November 26, 2018. If no timely and appropriate request for a hearing is received, and the Regional Administrator does not elect to hold a hearing on his own motion, this determination will become effective on November 26, 2018.

ADDRESSES: Requests for Public Hearing shall be addressed to: Regional Administrator, Environmental Protection Agency, Region 7, 11201 Renner Blvd., Lenexa, Kansas 66219. Requests for a public hearing shall include the following information: Name, address and telephone number of the individual, organization or other entity requesting a hearing; a brief statement of the requesting person's interest in the Regional Administrator's determination and a brief statement on information that the requesting person intends to submit at such hearing; the signature of the individual making the request or, if the request is made on behalf of an organization or other entity, the signature of a responsible official of the organization or other entity.

FOR FURTHER INFORMATION CONTACT: Kenneth L. Deason, Environmental Protection Agency Region 7, Drinking Water Management Branch, (913) 551-7585, or by email at deason.ken@epa.gov.

SUPPLEMENTARY INFORMATION: Notice is hereby given that the EPA has determined to approve an application by the Nebraska Department of Health and Human Services to incorporate the following EPA National Primary Drinking Water Regulations: Revised Total Coliform Rule (February 13, 2013, 78 FR 10270) and minor corrections (February 26, 2014, 79 FR 10665). This determination to approve the Nebraska program revision is made pursuant to 40 CFR 142.12(d) (3).

The application demonstrates that Nebraska has adopted drinking water regulations which satisfy the National Primary Drinking Water Regulations. EPA has determined that Nebraska's regulations are no less stringent than the corresponding Federal regulations and that Nebraska continues to meet all requirements for primary enforcement responsibility as specified in 40 CFR 142.10.

All documents relating to this determination are available for inspection between the hours of 9:00 a.m. and 3:00 p.m., Monday through Friday at the following offices: Nebraska Department of Health and Human Services, Drinking Water Division, 1200 N Street, Suite 400, Lincoln Nebraska 68509-8922. Environmental Protection Agency, Region 7, Water Wetlands and Pesticides Division, Drinking Water Management Branch, 11201 Renner Blvd. Lenexa, Kansas 66219.

(Authority: Section 1413 of the Safe Drinking Water Act, as amended, and 40 CFR 142.10, 142.12(d) and 142.13)

Dated: October 19, 2018.
Jim Gulliford,
Regional Administrator, Region 7.

[FR Doc. 2018-23362 Filed 10-24-18; 8:45 am]

BILLING CODE 6560-50-P